ENVIRONMENTAL PROTECTION AGENCY

[ER-FRL-6698-9]

Environmental Impact Statements and Regulations; Availability of EPA Comments

Availability of EPA comments prepared pursuant to the Environmental Review Process (ERP), under section 309 of the Clean Air Act and Section 102(2) (c) of the National Environmental Policy Act as amended. Requests for copies of EPA comments can be directed to the Office of Federal Activities at 202-564-7167.

An explanation of the ratings assigned to draft environmental impact statements (EISs) was published in FR dated April 11, 2008 (73 FR 19833).

Draft EISs

EIS No. 20070344, ERP No. D-FHW-B40172-VT, Circ-Williston Transportation Project, Improvements between I-89 and the Towns Williston and Essex and the Village of Essex Junction, City of Burlington, Chittenden County, VT.

Summary: EPA has environmental objections to the proposed Circ A-B alternatives based on environmental impacts to wetlands, water resources and storm water, air quality, indirect and cumulative impacts and hydrologic impacts. EPA also noted that the VT 2A alternatives appear to include the least environmentally damaging practicable alternative. Rating EO2.

EIS No. 20080010, ERP No. D-FHW-E40819-00, US-231/I-10 Connector Project HPP-1602-(507), Proposal to Build Limited Access Facility from US 231 North of Dothan to the Alabama/Florida State Line, Dale, Houston, Geneva Counties, AL.

Summary: EPA expressed environmental concerns about impacts related to noise, aquatic resources and community impacts, as well as to the 100-year floodplains. Rating EC2.

EIS No. 20080038, ERP No. D-BLM-J65507-WY, West Antelope Coal Lease Application (Federal Coal Lease Application WYW163340), Implementation, Converse and Campbell Counties, WY.

Summary: EPA expressed environmental concerns about impacts to air quality based on monitored data, wildlife habitat and wetlands. The final EIS should address these issues, and include mitigation for air quality and wetlands where applicable. Rating EC2.

EIS No. 20080043, ERP No. D-FTA-K39111-HI, Lahaina Small Boat Harbor Ferry Pier Project, To Build a New Inter-island Ferry Pier, Maui, Hawaii.

Summary: EPA expressed environmental concerns about the proposed project related to dredging, water quality, habitat, and cumulative impacts. In particular, EPA is concerned that the document does not discuss how the dredging and construction associated with the project will be performed and the impacts of those methods. Rating EC2.

EIS No. 20080091, ERP No. D-AFS-J65513-WY, Winter Elk Management Programs, Long-Term Special Use Authorization for Wyoming Game and Fish Commission to use National Forest System Land within the Bridger-Teton National Forest at Alkali Creek, Dog Creek, Fall Creek, Fish Creek, Muddy Creek, Patrol Cabin, and Upper Green River, Jackson and Sublette, WY.

Summary: EPA expressed environmental concerns about potential impacts to water quality resulting from stream bank damage, erosion, and sedimentation. EPA requested that the Final EIS provide additional information on existing water quality conditions and consider additional mitigation to reduce potential impacts. Rating EC2.

EIS No. 20080111, ERP No. D-COE-E09811-00, WITHDRAWN-PROGRAMMATIC—Hydropower Rehabilitations, Dissolved Oxygen and Minimum Flow Regimes at Wolf Creek Dam, Kentucky and Center Hill and Dale Hollow Dams, Tennessee, Implementation.

Summary: Officially withdrawn by the preparing agency. Rating NW.

EIS No. 20080129, ERP No. D-FHW-J40182-UT, Layton Interchange Project, Improvements on I-15 (Exit-330) to Provide Unrestricted Access Across the Unicon Pacific Railroad and to Address Traffic Congestion on Gentile St. in West Layton, Layton City, UT.

Summary: While EPA has no objections to the proposed action, EPA did request clarification of the air quality analysis. Rating LO.

Final EISs

EIS No. 20070458, ERP No. F-FHW-B40086-CT, CT 82/85/11 Corridor Transportation Improvements, Selected Preferred Alternative, is a Modification of Alternative 4(E), Funding and COE Section 404 Permit, In the Towns of Salem, Montville, East Lyme and Waterford, CT.

Summary: EPA has environmental objections to the proposed project about the evaluation of alternatives, the significance of impacts on the aquatic ecosystem, and compensatory mitigation issues.

EIS No. 20080099, ERP No. F-FHW-E40778-NC, US 74 Shelby Bypass Transportation Improvements, Preferred Alternative is 21, Construction, Funding and COE Section 404 Permit, Cleveland County, NC.

Summary: EPA expressed environmental concerns about the impacts to streams, potential prime farmland impacts, potential impacts to the protection of surface water quality within a protected water supply watershed and indirect and cumulative impacts. EPA is also concerned that impacts from mobile source air toxics were not addressed.

EIS No. 20080102, ERP No. F-BLM-K65323-00, Yuma Field Office (YFO) Resource Management Plan, Provide Direction Managing Public Lands, Implementation, Yuma, La Paz and Maricopa Counties, AZ and Imperial and Riverside Counties, CA.

Summary: The final EIS addressed EPA's comments; therefore, EPA does not object to the project.

EIS No. 20080131, ERP No. F-AFS-K65332-CA, Eldorado National Forest Public Wheeled Motorized Travel Management Project, Proposes to Regulate Unmanaged Public Wheeled Motor Vehicle, Implementation, Alphine, Amador, El Dorado, and Placer Counties, CA.

Summary: EPA continues to have environmental concerns about the potential adverse impacts on water quality and sensitive resources. As the plan is implemented we continue to recommend eliminating routes in sensitive and easily damaged, high elevation habitat.

EIS No. 20080094, ERP No. FS-AFS-L65453-ID, North Sheep Allotments—Sheep and Goat Allotment Management Plans, Additional Information on Analyses Concerning Management Indicator Species, Capable and Suitable Grazing Lands, and Adaptive Management Strategies, Authorization of Continued Sheep Grazing for Fisher Creek, Smiley Creek, North Fork-Boulder and Baker Creek Sheep and Goat Grazing Allotments, Sawtooth National Forest, Ketchum Ranger District, Sawtooth National Recreation Area, Blaine and Custer Counties, ID.

Summary: While EPA supports adaptive management we have concerns that the monitoring necessary to implement adaptive management may not be implemented. Providing an indication that funding will be available for the adaptive management is recommended.

EIS No. 20080127, ERP No. FS-FHW-J40135-MT, US 93 Highway Ninepipe/Ronan Improvement Project, from Dublin Gulch Road/Red Horn Road, Funding, Special-Use Permit, NPDES Permit and U.S. Army COE Section 404 Permit, Lake County, MT.

Summary: EPA has environmental concerns with the proposed project regarding impacts to wetlands and aquatic habitat, as well as impacts to wildlife and wildlife movement. Additional information is needed to fully assess and mitigate all potential impacts of the management actions.

Dated: May 13, 2008.
Ken Mittelholtz,
Environmental Protection Specialist, Office of Federal Activities.

[FR Doc. E8-11069 Filed 5-15-08; 8:45 am]

BILLING CODE 6560-50-P